NATIONAL AERONAUTICS AND SPACE ADMINISTRATION

48 CFR Parts 1807, 1811, 1815, 1816, 1817, 1819, 1834, 1843, 1845, and 1852

North American Industry Classification System (NAICS)

AGENCY: National Aeronautics and Space Administration (NASA).

ACTION: Final rule.

SUMMARY: This is a final rule amending the NASA Federal Acquisition Regulation Supplement (NFS) to conform to changes made in the Federal Acquisition Regulation (FAR) by Federal Acquisition Circular (FAC) 97-19 and make editorial corrections and miscellaneous changes dealing with NASA internal and administrative matters.

EFFECTIVE DATE: October 3, 2000.

FOR FURTHER INFORMATION CONTACT: Celeste Dalton, Code HK, (202) 358-1645, e-mail: celeste.dalton@hq.nasa.gov.

SUPPLEMENTARY INFORMATION:

A. Background

Federal Acquisition Circular (FAC) 97-19 replaced the Standard Industrial Classification (SIC) system with the North American Industry Classification System (NAICS). Additionally, FAC 97-19 amended the title to section 7.107, revised subpart 11.5, and amended section 43.205. This final rule amends the NASA FAR Supplement (NFS) to conform to these changes. Changes unrelated to FAC 97-19 are made to: update references to internal documents; revise the dollar threshold for use of Government bills of lading at 1852.247-73; revise the instructions for amending the clause at 1852.242-70 when its Alternate II is used; and make a technical correction at 1819.202.

B. Regulatory Flexibility Act

NASA certifies that this final rule does not have a significant economic impact on a substantial number of small business entities within the meaning of the Regulatory Flexibility Act (5 U.S.C. 601, et seq.), because it does not impose new requirements on offerors or contractors.

C. Paperwork Reduction Act

The Paperwork Reduction Act does not apply because the changes to the NFS do not impose any recordkeeping or information collection requirements, or collection of information from offerors, contractors, or members of the public that require the approval of the Office of Management and Budget under 44 U.S.C. 3501, et seq.

List of Subjects in 48 CFR Parts 1807, 1811, 1815, 1816, 1817, 1819, 1834, 1843, 1845, and 1852

Government procurement.

Thomas S. Luedtke,
Associate Administrator for Procurement.

Accordingly, 48 CFR Parts 1807, 1811, 1815, 1816, 1817, 1819, 1834, 1843, 1845, and 1852 are amended as follows:

1. The authority citation for 48 CFR Parts 1807, 1811, 1815, 1816, 1817, 1819, 1834, 1843, 1845, and 1852 continues to read as follows:

Authority: 42 U.S.C. 2473(c)(1).

PART 1807—ACQUISITION PLANNING

2. Revise the section heading at 1807.107 to read as follows:

1807.107 Additional requirements for acquisitions involving bundling.

PART 1811—DESCRIBING AGENCY NEEDS

3. Revise subpart 1811.5 to read as follows:

Subpart 1811.5—Liquidated Damages

1811.501 Policy.

(d) The procurement officer must forward recommendations concerning remission of liquidated damages to the Headquarters Office of Procurement (Code HS).

PART 1815—CONTRACTING BY NEGOTIATION

1815.7001 [Amended]

4. Amend section 1815.7001 by removing the words “Procurement Guidance” and adding the words “Procurement Advocacy Programs” in its place.

PART 1816—TYPES OF CONTRACTS

1816.405—274 [Amended]

5. Amend paragraphs (g)(2) and (g)(4) of section 1816.405-274, by removing the acronym “SIC” and adding “NAICS” in its place.

PART 1817—SPECIAL CONTRACTING METHODS

1817.7101 [Amended]

6. In section 1817.7101, amend paragraph (b) by removing the acronym “NHB” and adding “NPG” in its place.

PART 1819—SMALL BUSINESS PROGRAMS

1819.202-1 [Removed]

7. Remove section 1819.202-1.

1819.201 [Amended]

8. Amend paragraph (f)(1) of section 1819.201 by removing the acronym “SIC” and adding “NAICS” in its place.

9. Revise section 1819.1005 to read as follows:

1819.1005 Applicability.

(b) The targeted industry categories for NASA and their North American Industry Classification System (NAICS) codes are:

NAICS code | Industry category
334111 | Electronic Computer Manufacturing.
334418 | Printed Circuit Assembly (Electronic Assembly) Manufacturing.
334613 | Magnetic and Optical Recording Media Manufacturing.
334119 | Other Computer Peripheral Equipment Manufacturing.
33422 | Radio and Television Broadcasting and Wireless Communication Equipment Manufacturing.
336415 | Guided Missile and Space Vehicle Propulsion Unit and Propulsion Unit Parts Manufacturing.
54171 | Research and Development in the Physical Engineering and Life Sciences.
336419 | Other Guided Missile and Space Vehicle Parts and Auxiliary Equipment Manufacturing.
334511 | Search, Detection, Navigation, Guidance, Aeronautical, and Nautical Systems and Instrument Manufacturing.
333314 | Optical Instrument and Lens Manufacturing.
541511 | Custom Computer Programming Services.
541512 | Computer Systems Design Services.
51421 | Data Processing Services.
541519 | Other Computer Related Services.

1819.7208 [Amended]

10. Amend paragraph (b)(1) of section 1819.7208 by removing the acronym “SIC” and adding “NAICS” in its place.

1819.7209 [Amended]

11. Amend paragraphs (a)(1) and (a)(2) of section 1819.7209 by removing the acronym “SIC” and adding “NAICS” in its place.

PART 1834—MAJOR SYSTEM ACQUISITIONS

12. Revise section 1834.003 to read as follows:

1834.003 Responsibilities.

(a) NASA's implementation of OMB Circular No. A-109, Major System Acquisition, and FAR Part 34 is contained in this part and in NASA Policy Directive (NPD) 7120.4, “Program/Project Management,” and NASA Procedures and Guidelines (NPG) 7120.5, “ NASA Program and Project Management Processes and Requirements”.

PART 1843—CONTRACT MODIFICATIONS

13. Revise section 1843.205 to read as follows:

1843.205 Contract clauses.

As authorized in the prefaces of clauses FAR 52.243-1, Changes—Fixed Price; FAR 52.243-2, Changes—Cost Reimbursement; and FAR 52.243-4, Changes; and in the prescription at 43.205(c) for FAR 52.243-3, Changes—Time-and-Material or Labor-Hours, the period within which a contractor must assert its right to an equitable adjustment may be varied not to exceed 60 calendar days.

PART 1845—GOVERNMENT PROPERTY

1845.608-1 [Amended]

14. In section 1845.608-1, amend paragraph (a) by removing the acronym “NHB” and adding “NPG” in its place.

1845.610-4 [Amended]

15. Amend section 1845.610-4 by removing the acronym “NHB” and adding “NPG” in its place.

1845.613 [Amended]

16. Amend section 1845.613 by removing the acronym “NHB” and adding “NPG” in its place.

PART 1852—SOLICITATION PROVISIONS AND CONTRACT CLAUSES

17. In ALTERNATE II to the clause at section 1852.242-72, revise the introductory text to read as follows:

1852.242-72 Observance of legal holidays.

* * * * *

Alternate II

October 2000

As prescribed in 1842.7001(c), add the following as paragraphs (e) and (f) if Alternate I is used, or as paragraphs (c) and (d) if Alternate I is not used. If added as paragraphs (c) and (d), amend the first sentence of paragraph (d) by deleting “(e)” and adding “(c)” in its place.

* * * * *

1852.247-73 [Amended]

18. In section 1852.247-73, amend paragraphs (a) and (b) by removing “$100” and adding “$1,000” in its place.

[FR Doc. 00-25248 Filed 10-2-00; 8:45 am]

BILLING CODE 7510-01-P